NATIONAL AERONAUTICS AND SPACE ADMINISTRATION

[Notice (10-054)]

Government-Owned Inventions, Available for Licensing

AGENCY: National Aeronautics and Space Administration.

ACTION: Notice of Availability of Inventions for Licensing.

SUMMARY: Patent applications on the inventions listed below assigned to the National Aeronautics and Space Administration, have been filed in the United States Patent and Trademark Office, and are available for licensing.

DATES: May 21, 2010.

FOR FURTHER INFORMATION CONTACT: James J. McGroary, Patent Counsel, Marshall Space Flight Center, Mail Code LS01, Huntsville, AL 35812; telephone (256) 544-0013; fax (256) 544-0258.

NASA Case No. MFS-32099-1: Composite Pressure Vessel Including Crack Arresting Barrier.

NASA Case No. MFS-32605-1-CIP: Neutron Guides and Methods of Fabrication.

NASA Case No. MFS-32612-1: Safety System for Controlling Fluid Flow into a Suction Line.

NASA Case No.: MFS-32697-1: Friction Modifier Using Adherent Metallic Multilayered or Mixed Element Layer Conversion Coatings.

Dated: May 17, 2010.
Richard W. Sherman,
Deputy General Counsel.

[FR Doc. 2010-12166 Filed 5-20-10; 8:45 am]

BILLING CODE 7510-13-P